INTERNATIONAL BOUNDARY AND WATER COMMISSION, UNITED STATES AND MEXICO

United States Section; Notice of Availability of Draft Programmatic Environmental Impact Statement, Improvements to the USIBWC Tijuana River Flood Control Project

AGENCY: United States Section, International Boundary and Water Commission (USIBWC).

ACTION: Notice of availability of Draft Programmatic Environmental Impact Statement.

SUMMARY: Pursuant to section 102(2)(c) of the National Environmental Policy Act (NEPA) of 1969, as amended, the United States Section, International Boundary and Water Commission (USIBWC) has prepared a Draft Programmatic Environmental Impact Statement (Draft PEIS) for future improvements to the Tijuana River Flood Control Project operated by the USIBWC in southern San Diego County. The Draft PEIS, prepared in cooperation with the United States Army Corps of Engineers, analyzes potential effects of the No Action Alternative and two action alternatives for future improvements. Because several measures under consideration are at a conceptual level of development, the USIBWC has taken a broad programmatic look at the potential environmental implications of future implementation measures. The USIBWC will apply the programmatic evaluation as an overall guidance for future environmental evaluations of individual improvement projects whose implementation is anticipated or possible within a 20-year timeframe. Once any given improvement project is identified for future implementation, site-specific environmental documentation will be developed based on project specifications and PEIS findings. Public participation in the evaluation of potential effect is encouraged. A public hearing will be held at the City of Imperial Beach, California, to receive oral comments on the Draft PEIS from interested organizations and individuals through transcription by a certified court reporter. Written comments may be submitted at the public hearings or mailed to the USIBWC during the 45-day public review period to the contact and address below.

DATES: Written comments are requested by September 24, 2007, which is calculated from the anticipated date of the Environmental Protection Agency (EPA) Notice of Availability of August 10, 2007. A Public hearing will be held on August 30, 2007, from 6 p.m. to 9 p.m. PST, at the City of Imperial Beach, Dempsey Holder Safety Center, 950 Ocean Lane, Imperial Beach, CA 91932. Hearing date and location will also be announced in local newspapers one week prior to the hearing date.

FOR FURTHER INFORMATION CONTACT: Mr. Daniel Borunda, Environmental Protection Specialist, Environmental Management Division, USIBWC, 4171 North Mesa Street, C-100, El Paso, Texas 79902 or e-mail: danielborunda@ibwc.state.gov.

Copies of the Draft PEIS are available for inspection and review at the following locations: United States Section, International Boundary and Water Commission, San Diego Field Office, 2225 Dairy Mart Road, San Ysidro, CA 92173; and San Diego Central Library, 820 E. Street, San Diego, CA 92101. A copy of the Draft PEIS will also be posted at the USIBWC Web site at http://www.ibwc.state.gov.

SUPPLEMENTARY INFORMATION: The Draft PEIS analyzes potential effects of the No Action Alternative and two action alternatives for future improvement of the Tijuana River FCP. Potential future improvements to the Tijuana River Flood Control Project were organized in two action alternatives, Enhanced Operation and Maintenance Alternative, focusing on engineering improvements; and Multipurpose Project Management Alternative, incorporating additional measures for multiple use of the floodway and environmental measures supporting initiatives by federal agencies, local governments, and other organizations; these initiatives would be conducted largely under cooperative agreements. The two action alternatives were evaluated in terms of their potential effects relative to those of the No Action Alternative, in the areas of water, biological, cultural and socioeconomic resources, land use, and environmental health issues.

A copy of the DEIS has been filed with EPA in accordance with 40 CFR parts 1500-1508 and USIBWC procedures. The public comment period of the Draft PEIS will end 45 days after publication of the NOA in the Federal Register by EPA.

Dated: August 1, 2007.
Susan E. Daniel,
General Counsel.

[FR Doc. E7-15429 Filed 8-9-07; 8:45 am]

BILLING CODE 7010-01-P